COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: August 11, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7520-01-377-9533—Cord Connector/Rotator, Telephone, Detangler, Clear

Authorized Source of Supply: Bestwork Industries for the Blind, Inc, Cherry Hill, NJ

Contracting Activity: GSA/FAS ADMIN SVCS ACQUISITION BR(2, NEW YORK, NY

NSN(s)—Product Name(s):

7530-00-286-4337—Paper, Loose-Leaf, Ruled, White, 8½″ x 11″

7530-00-286-4338—Paper, Loose-Leaf, Ruled, White, 9½″ x 6″

7530-00-286-6366—Paper, Loose-Leaf, Ruled, White, 6¾″ x 3¾″

Authorized Source of Supply: Alabama Industries for the Blind, Talladega, AL

Contracting Activity: GSA/FAS ADMIN SVCS ACQUISITION BR(2, NEW YORK, NY

NSN(s)—Product Name(s):

7510-00-782-6274—Envelope, Transparent, 4½″ x 11¼″

Authorized Source of Supply: Newview Oklahoma, Inc, Oklahoma City, OK

Contracting Activity: GSA/FAS ADMIN SVCS ACQUISITION BR(2, NEW YORK, NY

NSN(s)—Product Name(s):

7510-00-782-6274—Envelope, Transparent, 4½″ x 11¼″

Authorized Source of Supply: Winston-Salem Industries for the Blind, Inc, Winston-Salem, NC

Contracting Activity: GSA/FAS ADMIN SVCS ACQUISITION BR(2, NEW YORK, NY

NSN(s)—Product Name(s):

7930-00-NIB-0761—Glass Cleaner, Biobased, Heavy Duty, Spray Pump Bottle, 16 oz, EA/1

Authorized Source of Supply: Lighthouse for the Blind of Houston, Houston, TX

Contracting Activity: GSA/FSS GREATER SOUTHWEST ACQUISITI, FORT WORTH, TX

Service(s)

Service Type: Document Destruction

Mandatory for: NARA—Pacific Alaska Region: 6125 Sand Point Way, NE, Seattle, WA

Authorized Source of Supply: Northwest Center, Seattle, WA

Contracting Activity: NATIONAL ARCHIVES AND RECORDS ADMINISTRATION, NARA FACILITIES

Service Type: Janitorial/Custodial Service

Mandatory for: National Oceanic & Atmospheric Administration, National Weather Service Office, Except Communication & Electrical Room, 500 Airport Blvd., #115, Lakes Charles, LA

Contracting Activity: NATIONAL OCEANIC AND ATMOSPHERIC ADMINISTRATION, WESTERN ACQUISITION DIVISION—BOULDER

Service Type: Janitorial Service

Mandatory for: Federal Aviation Administration, Norfolk Air Traffic Control Tower, 1245 Miller Store Road, Virginia Beach, VA and Patrick Henry Field Air Traffic Control Tower, Newport News, VA

Authorized Source of Supply: Portco, Inc., Portsmouth, VA

Contracting Activity: FEDERAL AVIATION ADMINISTRATION, 697DCK REGIONAL ACQUISITIONS SVCS

Service Type: Shelf Stocking, Custodial & Warehousing

Mandatory for: Defense Commissary Agency, Kaneohe Bay Marine Corps Base Commissary, MCBH Kaneohe Bay, HI

Authorized Source of Supply: Trace, Inc., Boise, ID

Contracting Activity: DEFENSE COMMISSARY AGENCY (DECA), DEFENSE COMMISSARY AGENCY

Service Type: Shelf Stocking, Custodial & Warehousing

Mandatory for: U.S. Coast Guard Support Center, Kodiak, AK

Designated Source of Supply: MQC Enterprises, Inc., Anchorage, AK

Contracting Activity: DEFENSE COMMISSARY AGENCY (DECA), DEFENSE COMMISSARY AGENCY

Service Type: Recycling Service

Mandatory for: US Air Force, Laughlin Air Force Base, 251 4th Street, Laughlin AFB, TX

Authorized Source of Supply: Goodwill Industries of San Antonio Contract Services, San Antonio, TX

Contracting Activity: DEPT OF THE AIR FORCE, FA3099 47 CONS-CC

Service Type: Food Service Attendant

Mandatory for: Wisconsin Air National Guard, 115th Fighter Wing, Building 500, Truax Field, Madison, WI

Contracting Activity: DEPT OF THE ARMY, W7N8 USPFO ACTIVITY WI ARNG

Service Type: Shelf Stocking & Custodial

Mandatory for: Defense Commissary Agency, Fort Wainwright Commissary/CDC, Fort Wainwright, AK

Authorized Source of Supply: MQC Enterprises, Inc., Anchorage, AK

Contracting Activity: DEFENSE COMMISSARY AGENCY (DECA), DEFENSE COMMISSARY AGENCY

Service Type: Recycling Service

Mandatory for: US Air Force, Robins Air Force Base, 215 Page Road, Robins AFB, GA

Contracting Activity: DEPT OF THE AIR FORCE, FA8501 AFSC PZIO

Service Type: Food Service Attendant

Mandatory for: US Air Force, Iowa Air National Guard, 3100 McKinley Avenue, Des Moines, IA

Contracting Activity: DEPT OF THE ARMY, W7M8 USPFO ACTIVITY IA ARNG

Service Type: Recycling Service

Mandatory for: US Air Force, Dobbins Air Reserve Base, 1538 Atlantic Avenue, Dobbins ARB, GA

Authorized Source of Supply: Nobis Enterprises, Inc., Marietta, GA

Contracting Activity: DEPT OF THE AIR FORCE, FA6703 94 LG LGC

Service Type: Painting Service

Mandatory for: US Air Force, Travis Air Force Base, 101 Bodin Circle, Travis Air Force Base, CA

Authorized Source of Supply: PRIDE Industries, Roseville, CA

Contracting Activity: DEPT OF THE AIR FORCE, FA4427 60 CONS LGC

Service Type: Laundry Service

Mandatory for: US Air Force, Joint Base Andrews and Joint Base Ancostia-Bolling, 1349 Lutman Drive, Joint Base Andrews, MD

Authorized Source of Supply: Louise W. Eggleston Center, Inc., Norfolk, VA

Contracting Activity: DEPT OF THE AIR FORCE, FA2860 11 CONS LGC

Michael R. Jurkowski,
Director, Business Operations.

[FR Doc. 2024-15316 Filed 7-11-24; 8:45 am]

BILLING CODE 6353-01-P